DEPARTMENT OF TRANSPORTATION

Federal Aviation Administration

14 CFR Part 21

[Docket No. FAA-2003-14825; Notice No. 03-06]

RIN 2120-AH90

Standard Airworthiness Certification of New Aircraft; Correction

AGENCY: Federal Aviation Administration (FAA), DOT.

ACTION: Advance notice of proposed rulemaking; correction.

SUMMARY: The FAA is correcting the preamble to an advance notice of proposed rulemaking published in the Federal Register of April 3, 2003 (68 FR 16217), regarding standard airworthiness certification of new aircraft. The correction adds a Federal Register reference and clarifies how the FAA determines that an individual aircraft satisfies all the airworthiness standards identified by a type certificate.

FOR FURTHER INFORMATION CONTACT: Dan Hayworth, Production and Airworthiness Division, AIR-200, Federal Aviation Administration, 800 Independence Avenue, SW., Washington, DC 20591, telephone (202) 267-8449.

Correction

In FR Doc. 03-8124, published on April 3, 2003, make the following corrections:

1. On page 16218, in the first column, third paragraph, add “See 32 FR 14926, Oct. 28, 1967” at the end of the paragraph.

2. On page 16218, in the second column, correct the last sentence of the second paragraph to read, “This evaluation determines that the individual aircraft satisfies all the airworthiness standards identified by the type certificate.”

Issued in Washington, DC, on April 23, 2003.
Donald P. Byrne,
Assistant Chief Counsel, Regulations Division.

[FR Doc. 03-10580 Filed 4-29-03; 8:45 am]

BILLING CODE 4910-13-P